DEPARTMENT OF ENERGY

Federal Energy Regulatory Commission

[Docket No. RP96-129-015]

Trunkline Gas Company; Notice of Refund Report

August 2, 2001.

Take notice that on July 30, 2001, Trunkline Gas Company (Trunkline) tendered for filing its Refund Report pursuant to Article III, Section 5 of the Stipulation and Agreement dated January 29, 2001.

Trunkline states that pursuant Article III, Section 5 of the Settlement it distributed refunds on June 29, 2001 for the period August 1, 1996 through April 30, 2001.

Trunkline further states that pursuant to Article III, Section 5(d) of the of the Settlement, it is submitting its a Refund Report which consists of the following:

Appendix A: the total refund amount for each customer, by contract and by principal and interest amounts.

Appendix B: the interest rates used to calculate refunds, which conform to the requirements of Section 154.501 (d) of the Commission's Regulations.

Appendix C: customer detailed calculations that support the principal and interest refund amounts (volumes 1 through 11).

Trunkline states that copies of the transmittal letter and Appendices A and B of the filing are being served on all affected customers, parties to the proceeding in Docket No. RP96-129-000 and applicable state regulatory agencies.

Any person desiring to protest said filing should file a protest with the Federal Energy Regulatory Commission, 888 First Street, N.E., Washington, D.C. 20426, in accordance with Section 385.211 of the Commission's Rules and Regulations. All such protests must be filed on or before August 9, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19883 Filed 8-7-01; 8:45 am]

BILLING CODE 6717-01-P